COMMITTEE FOR PURCHASE FROM PEOPLE WHO ARE BLIND OR SEVERELY DISABLED

Procurement List; Deletions

AGENCY: Committee for Purchase From People Who Are Blind or Severely Disabled.

ACTION: Deletions from the Procurement List.

SUMMARY: This action deletes product(s) and service(s) from the Procurement List that will be furnished by nonprofit agencies employing persons who are blind or have other severe disabilities.

DATES: Date deleted from the Procurement List: April 28, 2024.

ADDRESSES: Committee for Purchase From People Who Are Blind or Severely Disabled, 355 E Street SW, Suite 325, Washington, DC 20024.

FOR FURTHER INFORMATION CONTACT: Michael R. Jurkowski, Telephone: (703) 785-6404 or email CMTEFedReg@AbilityOne.gov.

SUPPLEMENTARY INFORMATION:

Deletions

On 2/23/2024, the Committee for Purchase From People Who Are Blind or Severely Disabled published notice of proposed deletions from the Procurement List. This notice is published pursuant to 41 U.S.C. 8503 (a)(2) and 41 CFR 51-2.3.

After consideration of the relevant matter presented, the Committee has determined that the product(s) and service(s) listed below are no longer suitable for procurement by the Federal Government under 41 U.S.C. 8501-8506 and 41 CFR 51-2.4.

Regulatory Flexibility Act Certification

I certify that the following action will not have a significant impact on a substantial number of small entities. The major factors considered for this certification were:

1. The action will not result in additional reporting, recordkeeping or other compliance requirements for small entities.

2. The action may result in authorizing small entities to furnish the product(s) and service(s) to the Government.

3. There are no known regulatory alternatives which would accomplish the objectives of the Javits-Wagner-O'Day Act (41 U.S.C. 8501-8506) in connection with the product(s) and service(s) deleted from the Procurement List.

End of Certification

Accordingly, the following product(s) and service(s) are deleted from the Procurement List:

Product(s)

NSN(s)—Product Name(s):

4240-00-SAM-0024—Hearing Protection, Over-the-Head Earmuff, NRR 20db

Designated Source of Supply: Access: Supports for Living Inc., Middletown, NY

Contracting Activity: DLA TROOP SUPPORT, PHILADELPHIA, PA

NSN(s)—Product Name(s):

4330-01-189-1007—Filter-Separator, Liquid Fuel

2540-01-377-3125—Arm, Windshield Wiper, HMMW Vehicle, 20″ L

Designated Source of Supply: Georgia Industries for the Blind, Bainbridge, GA

Contracting Activity: DLA LAND AND MARITIME, COLUMBUS, OH

NSN(s)—Product Name(s):

7520-01-585-0980—Planner, Non-Dated, Flexible, 30/60 Day, Erasable, 48″ x 32″

Designated Source of Supply: Chicago Lighthouse Industries, Chicago, IL

Contracting Activity: GSA/FAS FURNITURE SYSTEMS MGT DIV, PHILADELPHIA, PA

NSN(s)—Product Name(s):

8340-01-600-4807—Individual Reversible Field Tarpaulin, 92.5″ x 82.5″, Camouflage Face with Foilage Green Back

8340-01-600-4809—Individual Reversible Field Tarpaulin, 92.5″ x 82.5″, Camouflage Face with Desert Sand Back

Designated Source of Supply: ORC Industries, Inc., La Crosse, WI

Contracting Activity: DLA TROOP SUPPORT, PHILADELPHIA, PA

NSN(s)—Product Name(s):

8340-01-600-4807—Individual Reversible Field Tarpaulin, 92.5″ x 82.5″, Camouflage Face with Foilage Green Back

8340-01-600-4809—Individual Reversible Field Tarpaulin, 92.5″ x 82.5″, Camouflage Face with Desert Sand Back

Designated Source of Supply: Huntsville Rehabilitation Foundation, Inc., Huntsville, AL

Contracting Activity: DLA TROOP SUPPORT, PHILADELPHIA, PA

Service(s)

Service Type: Laundry Service

Mandatory for: Department of the Navy, Naval Hospital Pensacola, 6000 West Highway 98, Pensacola, FL

Designated Source of Supply: Wiregrass Rehabilitation Center, Inc., Dothan, AL

Contracting Activity: DEPT OF THE NAVY, NAVSUP FLT LOG CTR JACKSONVILLE

Michael R. Jurkowski,
Director, Business Operations.

[FR Doc. 2024-06707 Filed 3-28-24; 8:45 am]

BILLING CODE 6353-01-P